DEPARTMENT OF HOMELAND SECURITY

Office of the Secretary

Public Workshop: Privacy Impact Assessments at DHS—A Tutorial on How To Write PIAs for the Department of Homeland Security

AGENCY: Privacy Office, DHS.

ACTION: Notice announcing public workshop.

SUMMARY: The Department of Homeland Security Privacy Office will host a public workshop, “Privacy Impact Assessments at DHS—A Tutorial on How to Write PIAs.”

DATES: The workshop will be held on May 23, 2007, from 9 a.m. to 1 p.m.

ADDRESSES: The workshop will be held in the auditorium at the DHS Offices at the GSA Regional Headquarters Building located at 7th and D Streets, SW., Washington, DC 20024.

FOR FURTHER INFORMATION CONTACT: Brooke Dickson-Knowles, Privacy Office, Department of Homeland Security, Washington, DC 20528; by telephone 703-235-0780; by facsimile 703-235-0790; or by e-mail at privacyworkshop@dhs.gov.

SUPPLEMENTARY INFORMATION: The Department of Homeland Security (DHS) Privacy Office is holding a public workshop that will provide in-depth training on how to write privacy impact assessments (PIAs). A case study will be used to illustrate a step-by-step approach to researching, preparing, and writing these documents. The workshop will highlight the changes to the Privacy Impact Assessments: Official Guidance for DHS as well as refresh attendees on the content of a PIA at DHS.

The workshop is open to the public and there is no fee for attendance.

Registration and Security: In order to facilitate security requirements of the GSA facility, attendees must register in advance for this workshop. Registration closes at 9 a.m., Monday, May 21, 2007. To register, please send an e-mail to privacyworkshop@dhs.gov, with the name of the workshop in the subject line, and your full name and organizational affiliation in the body of the e-mail. Alternatively, you may call 703-235-0780 to register and to provide the Privacy Office with your full name and organizational affiliation.

All attendees who are employed by a federal agency will be required to show their federal agency employee photo identification badge to enter the building. Attendees who do not possess a federal agency employee photo identification badge will need to show a form of government-issued photo identification, such as a driver's license, in order to verify their previously-provided registration information. This is a security requirement of the facility.

The Privacy Office will only use your name for the security purposes of this specific workshop and to contact you in the event of a change to the workshop.

Special Assistance: Persons with disabilities who require special assistance should indicate this in their admittance request and are encouraged to identify anticipated special needs as early as possible.

Dated: April 27, 2007.
Hugo Teufel III,
Chief Privacy Officer.

[FR Doc. E7-9058 Filed 5-10-07; 8:45 am]

BILLING CODE 4410-10-P